NATIONAL FOUNDATION FOR THE ARTS AND THE HUMANITIES

National Endowment for the Arts; National Council on the Arts 141st Meeting

Pursuant to section 10 (a) (2) of the Federal Advisory Committee Act (Public Law 92-463), as amended, notice is hereby given that a meeting of the National Council on the Arts will be held on November 15, 2000 from 9:00 a.m.-400 p.m. in Room M-09 at the Nancy Hanks Center, 1100 Pennsylvania Avenue, NW, Washington, D.C. 20506.

The meeting will be open to the public on a space available basis. Following opening remarks and announcements, there will be an update on agency appropriations and introduction of the meeting theme—The Arts &Livable Communities—and guest speaker Robert Putnam, author of Bowling Alone: The Collapse and Revival of American Community. Mr. Putnam's presentation will be followed by guest presentations from Indianapolis Mayor Bart Peterson and from representatives of the Mid Atlantic Arts Foundation: Alan Cooper, Abel Lopez, and Rebecca Klein. Congressional and Budget updates will follow. The meeting will also include presentations by Rick Lowe of Project Row Houses and Ken Burns on his public TV series Jazz. Other topics tentatively will include: Application Review for Creativity, Organizational Capacity, Literature Fellowships, and Leadership Initiatives; a briefing on the Artists in American Life Colloquia, including a report from participant David Henry Hwang; review of Guidelines for Grants to Organizations and Literature Fellowships; and general discussion.

If, in the course of discussion, it becomes necessary for the Council to discuss non-public commercial or financial information of intrinsic value, the Council will go into closed session pursuant to subsection (c)(4) of the Government in the Sunshine Act, 5 U.S.C. 552b. Additionally, discussion concerning purely personal information about individuals, submitted with grant applications, such as personal biographical and salary data or medical information, may be conducted by the Council in closed session in accordance with subsection (c) (6) of 5 U.S.C. 552b.

Any interested persons may attend, as observers, Council discussions and reviews that are open to the public. If you need special accommodations due to a disability, please contact the Office of AccessAbility, National Endowment for the Arts, 1100 Pennsylvania Avenue, NW, Washington, D.C. 20506, 202/682-5532, TTY-TDD 202/682-5429, at least seven (7) days prior to the meeting.

Further information with reference to this meeting can be obtained from the Office of Communications, National Endowment for the Arts, Washington, D.C. 20506, at 202/682-5570.

Dated: October 13, 2000.
Kathy Plowitz-Worden,
Panel Coordinator, Office of Guidelines and Panel Operations.

[FR Doc. 00-26756 Filed 10-17-00; 8:45 am]

BILLING CODE 7537-01-P